NATIONAL LABOR RELATIONS BOARD

Privacy Act of 1974, Publication of Revised Systems of Records Notices

AGENCY: National Labor Relations Board (NLRB).

ACTION: Revised publication of Systems of Records Notices NLRB-5, Employment and Performance Records, Attorney and Field Examiners, and NLRB-6, Employment and Performance Records, Nonprofessionals and Nonlegal Professionals.

SUMMARY: The Privacy Act of 1974, as amended, requires that each agency publish a notice of a proposed new system of records, as well as proposals to revise existing systems of records. This notice alters two existing Privacy Act Systems of Records Notices, NLRB-5, Employment and Performance Records, Attorney and Field Examiners, and NLRB-6, Employment and Performance Records, Nonprofessionals and Nonlegal Professionals. This change is accomplished by deleting one routine use; dividing one routine use into two distinct uses for purposes of clarity; amending the language of five routine uses, updating the addresses of systems locations and updating citations referring to 29 CFR 102.117; as well as making several insignificant administrative language revisions.

All persons are advised that in the absence of submitted comments, views, or arguments considered by the NLRB as warranting modification of the notices to be published, it is the intention of the NLRB that the notices shall be effective upon expiration of the comment period without further action by this Agency.

DATES: The amended systems of records notices will become effective without further notice November 9, 2000 unless comments are received on or before that date which result in a contrary determination.

ADDRESSES: Written comments on the amended Privacy Act Systems of Records Notices may be submitted to the Executive Secretary, National Labor Relations Board, 1099 14th Street, NW, Room 11600, Washington, DC 20570-0001.

Copies of all such communications will be available for examination by interested persons during normal business hours (8:30 a.m. to 5 p.m. Monday through Friday, excluding Federal holidays).

FOR FURTHER INFORMATION CONTACT: John J. Toner, Executive Secretary, National Labor Relations Board, 1099 14th Street, NW, Room 11600, Washington, DC 20570-0001.

SUPPLEMENTARY INFORMATION: The following changes have been made to both existing NLRB Systems of Records Notices, NLRB-5, Employment and Performance Records, Attorneys and Field Examiners, and NLRB-6, Employment and Performance Records, Nonprofessionals and Nonlegal Professionals.

1. Routine use 1 has been deleted because the specified “need to know” in it is authorized by 5 U.S.C. 552a(b)(1) and (5).

2. The language of routine use 3 has been amended to specify that on disclosure to an inquiring congressional office, the subject individual must be the constituent about whom the records are maintained. Routine use 3 has been renumbered as 2.

3. Routine use 4 has been divided into two distinct uses for purposes of clarity, one dealing solely with arbitrators and the other with officials of labor organizations. The language has been amended to conform to the intent of routine use (e) in the Government-wide system of records OPM/GOVT-2, Employee Performance File System Records, to eliminate the NLRB requirement that the information that may be disclosed to a labor organization “shall be furnished in depersonalized form, i.e., without personal identifiers.” Routine use (e) is a Government-wide system of records OPM/GOVT-2 which provides that the information will be “disclosed to an arbitrator to resolve disputes under a negotiated grievance procedure or to officials of labor organizations under 5 U.S.C. Chapter 71 when relevant and necessary to their duties of exclusive representation.” The NLRB is deleting the requirement that “[W]henever feasible and consistent with the responsibilities under the Act, such information shall be furnished in depersonalized form, i.e., without personal identifiers,” a requirement not contained in OPM/GOVT-2 routine use (e). Routine use 4 has been renumbered 3 and 4.

4. Routine use 5 has been amended to specify more exactly the categories of users and the information that may be disclosed, and has been renumbered 5.

5. Routine use 6 has been amended by changing reference from “Agency” to “NLRB” for more specificity, and has been renumbered 6.

6. Routine use 7 has been amended to specify more exactly the information that may be disclosed to a court or an adjudicative body in the course of presenting evidence or argument including disclosure to opposing counsel or witnesses in the course of civil discovery, and has been renumbered 7.

7. The addresses of systems locations and managers in NLRB-5, and NLRB-6 has been changed from “NLRB, 1717 Pennsylvania Avenue, NW, Washington, DC 20570-0001” to “NLRB, 1099 14th Street, NW, Washington, DC 20570-0001.”

8. Reference to 29 CFR 102.117 citations have been changed to read as follows for the paragraphs in Notification Procedures, 29 CFR 102.117(f); Records Access Procedures, 29 CFR 102.117(g) and (h); and Contesting Records Procedures, 29 CFR 102.117(i).

A report of the proposal to revise these systems of records notices was filed pursuant to 5 U.S.C. 552(r) with Congress and the Office of Management and Budget.

Dated: Washington, DC, September 28, 2000.
By direction of the Board.
John J. Toner,
Executive Secretary.

NLRB-5

System Name:

Employment and Performance Records, Attorneys and Field Examiners.

Security Classification:

None.

System Location:

Office of Executive Assistant, Division of Operations Management; Board Members' Offices; Office of Representation Appeals; Office of the Solicitor, NLRB, 1099 14th Street, NW, Washington, DC 20570-0001.

Washington and Field Offices are authorized to maintain the records or copies of the records for current and former NLRB employees of that office. See attached appendix for addresses of the Washington and Field Offices.

Categories of Individuals Covered by the System:

Current and former Attorneys and Field Examiners in offices under the general supervision of the General Counsel; current and former Attorneys employed on Board Members' Staffs, in the Office of the Solicitor, and in the Office of Representation Appeals.

Categories of Records in the System:

Records may include copies of employment applications, copies of personnel records, educational transcripts, resumes, employment interview reports, evaluation reports, career development appraisals, recommendations concerning promotion, copies of the official personnel file, correspondence, memoranda, and other relevant information.

Authority for Maintenance of the System:

5 U.S.C. 4301 et seq.; 29 U.S.C. 153(D), 154, 159, 160.

Purposes:

These records document employee actions and performance appraisals.

Routine uses of Records Maintained in the System, including Categories of Users and the Purposes of Such Uses:

The records, or information contained therein may be disclosed to:

1. Individuals who have a need for the information in connection with the processing of an appeal, grievance, or complaint.

2. A Member of Congress or to a Congressional staff member in response to an inquiry of the Congressional office made at the written request of the constituent about whom the record is maintained.

3. Officials of labor organizations recognized under 5 U.S.C. Chapter 71, when disclosure is not prohibited by law; and the data is normally maintained by the Agency in the regular course of business and is reasonably available and necessary for full and proper discussion, understanding and negotiation of subjects within the scope of collective bargaining. The foregoing shall have the identical meaning as 5 U.S.C. 7114(b)(4) as interpreted by the FLRA and the courts.

4. An arbitrator to resolve disputes under a negotiated grievance arbitration procedure.

5. Other agencies, offices, establishments, and authorities, whether Federal, State, or local, authorized or charged with the responsibility to investigate, litigate, prosecute, enforce, or implement a statute, rule, regulation, or order, where the record or information, by itself or in connection with other records or information, indicates a violation or potential violation of law, whether criminal, civil, administrative, or regulatory in nature, and whether arising by general statute, or particular program statute, or by regulation, rule or order issued pursuant thereto.

6. The Department of Justice for use in litigation when either: (a) The NLRB or any component thereof; (b) any employee of the NLRB in his or her official capacity; (c) any employee of the NLRB in his or her individual capacity where the Department of Justice has agreed to represent the employee; or (d) the United States Government, where the NLRB determines that litigation is likely to affect the NLRB or any of its components, is a party to litigation or has an interest in such litigation, and the use of such records by the Department of Justice is deemed by the NLRB to be relevant and necessary to the litigation, provided that in each case the Agency determines that disclosure of the records to the Department of Justice is a use of the information contained in the records that is compatible with the purpose for which the records were collected.

7. A court, magistrate, administrative tribunal, or other adjudicatory body in the course of presenting evidence or argument, including disclosure to opposing counsel or witness in the course of civil discovery, litigation, or settlement negotiations, or in connection with criminal law proceedings, when: (a) The NLRB or any component thereof; or (b) any employee of the NLRB in his or her official capacity; (c) any employee of the NLRB in his or her individual capacity, where the NLRB has agreed to represent the employee; or (d) the United States Government, is a party to litigation or has interest in such litigation, and determines that such disclosure is relevant and necessary to the litigation and that the use of such records is therefore deemed by the NLRB to be for a purpose that is compatible with the purpose for which the records were collected.

Disclosure to Consumer Reporting Agencies:

None.

Policies and Practices for Storing, Retrieving, Accessing, Retaining, and Disposing of Records in the System:

Storage:

Maintained on paper including forms, letters, and memoranda, and on electronic automated media.

Retrievability:

Alphabetically by name.

Safeguards:

Maintained in file cabinets. During duty hours cabinets are under the surveillance of personnel charged with custody of the records and after duty hours are behind locked doors. Access is limited to personnel having a need for access to perform their official functions. Computer records can be accessed only through use of confidential procedures and passwords. Disks are limited to those with access codes and are stored in a locked room during and after duty hours.

Retention and Disposal:

Retained and disposed of in accordance with applicable General Records Schedules issued by the National Archives and Records Administration, and the Office of Personnel Management.

System Manager(s) and Address:

1. Attorneys and Field Examiners under supervision of the General Counsel—Executive Assistant, Division of Operations Management, NLRB, 1099 14th Street, NW., Washington, DC 20570-0001.

2. Attorneys under supervision of a Board Member—Chief Counsel to that Board Member, NLRB, 1099 14th Street, NW, Washington, DC 20570-0001.

3. Attorneys under supervision of the Director, Office of Representation Appeals—Director, Office of Representation Appeals, NLRB, 1099 14th Street, NW., Washington, DC 20570-0001.

4. Attorneys under supervision of the Solicitor—Solicitor, NLRB, 1099 14th Street, NW., Washington, DC 20570-0001.

See the attached appendix for titles and addresses of officials responsible for this system at their location.

Notification Procedures:

An individual may inquire as to whether this system contains a record pertaining to him or her by directing a request to the appropriate System Manager in accordance with the procedures set forth in 29 CFR 102.117(f).

Record Access Procedures:

An individual seeking to gain access to records in this system pertaining to him or her should contact the appropriate System Manager in accordance with the procedures set forth in 29 CFR 102.117(g) and (h).

Contesting Record Procedures:

An individual may request amendment of a record pertaining to such individual maintained in this system by directing a request to the appropriate System Manager in accordance with the procedures set forth in 29 CFR 102.117(i).

Record Source Categories:

The individual, the Personnel Branch, educational institutions, interviewers, evaluators, references, previous employers and supervisors.

NLRB-6

System Name:

Employment and Performance Records, Nonprofessionals and Nonlegal Professionals.

Security Classification:

None.

System Location:

Records are authorized to be maintained for current and former NLRB employees in all Agency offices. See the attached appendix for the addresses of these offices.

Categories of Individuals Covered by the System:

Current and former nonprofessional employees and nonlegal professional employees of the Agency.

Categories of Records in the System:

Records may include copies of employment applications, copies of personnel records, educational transcripts, resumes, employment interview reports, evaluation reports, career development appraisals, recommendations concerning promotion, copies of the official personnel file, correspondence, memoranda, and other relevant information.

Authority for Maintenance of the System:

5 U.S.C. 4301 et seq.; 29 U.S.C. 153(d), 154, 159, and 160.

Purpose(s):

These records document employee actions and performance appraisals.

Routine uses of Records Maintained in the System, Including Categories of Users and the Purposes of Such Uses:

The records, or information therefrom, are disclosed to:

1. Individuals who have a need for the information in connection with the processing of an appeal, grievance, or complaint.

2. A Member of Congress or to a Congressional staff member in response to an inquiry of the Congressional office made at the written request of the constituent about whom the record is maintained.

3. Officials of labor organizations recognized under 5 U.S.C. Chapter 71, when disclosure is not prohibited by law; and the data is normally maintained by the Agency in the regular course of business and is reasonably available and necessary for full and proper discussion, understanding and negotiation of subjects within the scope of collective bargaining. The foregoing shall have the identical meaning as 5 U.S.C. 7114(b)(4) as interpreted by the FLRA and the courts.

4. An arbitrator to resolve disputes under a negotiated grievance arbitration procedure.

5. Other agencies, offices, establishments, and authorities, whether Federal, State, or local, authorized or charged with the responsibility to investigate, litigate, prosecute, enforce, or implement a statute, rule, regulation, or order, where the record or information, by itself or in connection with other records or information, indicates a violation or potential violation of law, whether criminal, civil, administrative, or regulatory in nature, and whether arising by general statute or particular program statute, or by regulation, rule, or order issued pursuant thereto.

6. The Department of Justice for use in litigation when either: (a) The NLRB or any component thereof; (b) any employee of the NLRB in his or her official capacity; (c) any employee of the NLRB in his or her individual capacity where the Department of Justice has agreed to represent the employee; or (d) the United States Government where the NLRB determines that litigation is likely to affect the NLRB or any of its components, is a party to litigation or has an interest in such litigation, and the use of such records by the Department of Justice is deemed by the NLRB to be relevant and necessary to the litigation, provided that in each case the Agency determines that disclosure of the records to the Department of Justice is a use of the information contained in the records that is compatible with the purpose for which the records were collected.

7. A court, magistrate, administrative tribunal, or other adjudicatory body in the course of presenting evidence or argument, including disclosure to opposing counsel or witnesses in the course of civil discovery, litigation, or settlement negotiations, or in connection with criminal law proceedings, when: (a) the NLRB or any component thereof; or (b) any employee of the NLRB in his or her official capacity; or (c) any employee of the NLRB in his or her individual capacity, where the NLRB has agreed to represent the employee; or (d) the United States Government, is a party to litigation or has interest in such litigation, and determines that such disclosure is relevant and necessary to the litigation and that the use of such records is therefore deemed by the Agency to be for a purpose that is compatible with the purpose for which the records were collected.

Disclosure to Consumer Reporting Agencies:

None.

Policies and Practices for Storing, Retrieving, Accessing, Retaining and Disposing of Records in the System:

Storage:

Maintained on paper including forms, letters, memoranda, and on electronic automated media.

Retrievability:

Alphabetically by name.

Safeguards:

Maintained in file cabinets. During duty hours cabinets are under the surveillance of personnel charged with the custody of the records, and after duty hours are behind locked doors. Access is limited to personnel having a need for access to perform their official functions. Computer records can be accessed only through use of confidential procedures and passwords. Disks are limited to those with access codes and are stored in a locked room during and after duty hours.

Retention and Disposal:

Retained and disposed of in accordance with applicable General Records Schedules issued by the National Archives and Records Administration and the Office of Personnel Management.

System Manager(s) and Address:

See the attached appendix for the titles and addresses of officials responsible for this system at their locations.

Notification Procedures:

An individual may inquire as to whether this system contains a record pertaining to him or her by directing a request to the appropriate System Manager in accordance with the procedures set forth in 29 CFR 102.117(f).

Record Access Procedures:

An individual seeking to gain access to records in this system pertaining to him or her should contact the appropriate System Manager in accordance with the procedures set forth in 29 CFR 102.117(g) and (h).

Contesting Record Procedures:

An individual may request amendment of a record pertaining to such individual maintained in this system by directing a request to the appropriate System Manager in accordance with the procedures set forth in 29 CFR 102.117(i).

Record Source Categories:

The individual, the Personnel Branch, professional employees, educational institutions, interviewers, evaluators, references, previous employers and supervisors.

Appendix

Names and Addresses of NLRB Offices referenced in Notice of Records System shown above.

NLRB HEADQUARTERS OFFICES

1099 14th Street, NW, Washington, DC 20570-0001

OFFICES OF THE BOARD

Members of the Board

Executive Secretary, Office of the Executive Secretary

Director, Office of Representation Appeals

Director, Division of Information

Solicitor

Inspector General, Office of Inspector General

Chief Administrative Law Judge, 1099 14th Street, NW, Room 5400 East, Washington, DC 20570-0001

Associate Chief Administrative Law Judge, San Francisco Judges, 901 Market Street, Suite 300, San Francisco, California 94103-1779

Associate Chief Administrative Law Judge, New York Judges, 120 West 45th Street, 11th Floor, New York, New York 10036-5503

Associate Chief Administrative Law Judge, Atlanta Judges, Peachtree Summit Building, 401 W. Peachtree Street, NW, Suite 1708, Atlanta, Georgia 30308-3510

OFFICES OF THE GENERAL COUNSEL

General Counsel

Associate General Counsel, Division of Operations Management

Associate General Counsel, Division of Advice

Associate General Counsel, Division of Enforcement Litigation

Director, Division of Administration

Director, Equal Employment Opportunity

NLRB FIELD OFFICES

Regional Director, Region 1, Thomas P. O'Neal, Jr., Federal Office Building, 10 Causeway Street, 6th Floor, Boston, Massachusetts 02222-1072

Regional Director, Region 2, Jacob K. Javits Federal Building, 26 Federal Plaza, Room 3614, New York, New York 10278-0104

Regional Director, Region 3, Thaddeus J. Dulski Federal Building, 111 West Huron Street, Room 901, Buffalo, New York 14202-2387

Resident Officer, Albany Resident Office, Leo W. O'Brien Federal Building, Clinton Avenue at N. Pearl Street, Room 342, Albany, New York 12207-2350

Regional Director, Region 4, One Independence Mall, 615 Chestnut Street, 7th Floor, Philadelphia, Pennsylvania 19106-4404

Regional Director, Region 5, The Appraisers Store Building, 103 South Gay Street, 8th Floor, Baltimore, Maryland 21202-4026

Resident Officer, Franklin Court Building, 1099 14th Street, NW, Suite 5530, Washington, DC 20570-0001

Regional Director, Region 6, William S. Moorehead Federal Building, 1000 Liberty Avenue, Room 1501, Pittsburgh, Pennsylvania 15222-4173

Regional Director, Region 7, Patrick V. McNamara Federal Building, 477 Michigan Avenue, Room 300, Detroit, Michigan 48226-2569

Resident Officer, Grand Rapids Resident Office, The Furniture Company Building, 82 Ionia Northwest, Room 330, Grand Rapids, Michigan 49503-3022

Regional Director, Region 8, Anthony J. Celebrezze Federal Building, 1240 East 9th Street, Room 1695, Cleveland, Ohio 44199-2086

Regional Director, Region 9, John Weld Peck Federal Building, 550 Main Street, Room 3003, Cincinnati, Ohio 45202-3271

Regional Director, Region 10, Harris Tower, 233 Peachtree Street, NE, Suite 1000, Atlanta, Georgia 30303-1504

Resident Officer, The Burger-Phillips Centre, 1900 3rd Avenue North, Suite 311, Birmingham, Alabama 35203-3511

Regional Director, Region 11, Republic Square, Suite 200, 4035 University Parkway, Winston-Salem, North Carolina 27106-3325

Regional Director, Region 12, South Trust Plaza, Suite 530, 201 East Kennedy Boulevard, Tampa, Florida 33602-5824

Resident Officer, Jacksonville Resident Office, Federal Building, 400 West Bay Street, Room 214, Box 35091, Jacksonville, Florida 32202-4412

Resident Officer, Miami Resident Office, Federal Building, 51 Southwest 1st Avenue, Room 1320, Miami, Florida 33130-1608

Regional Director, Region 13, 200 West Adams Street, Suite 800, Chicago, Illinois 60606-5208

Regional Director, Region 14, 1222 Spruce Street, Room 8.302, Saint Louis, Missouri 63103-2829

Regional Director, Region 15, 1515 Poydras Street, Room 610, New Orleans, Louisiana 70112-3723

Regional Director, Region 16, Federal Office Building, 819 Taylor Street, Room 8A24, Fort Worth, Texas 76102-6178

Resident Officer, Houston Resident Office, Mickey Leland Federal Building, 1919 Smith Street—Suite 1545, Houston, Texas 77002-2649

Resident Officer, San Antonio Resident Office, 615 E. Houston Street, Room 565, San Antonio, Texas 78205-2040

Regional Director, Region 17, 8600 Farley Street, Suite 100, Overland Park, Kansas 66212-4677

Resident Officer, Tulsa Resident Office, 224 South Boulder Avenue, Room 318, Tulsa, Oklahoma 74103-3027

Regional Director, Region 18, Towle Building, Suite 790, 330 Second Avenue South, Minneapolis, Minnesota 55401-2221

Resident Officer, Des Moines Resident Office, 210 Walnut Street, Room 439, Des Moines, Iowa 50309-2116

Regional Director, Region 19, Henry M. Jackson Federal Building, 915 Second Avenue, Room 2948, Seattle, Washington 98174-1078

Resident Officer, Anchorage Resident Office, 222 West 7th Avenue, Box 21, Anchorage, Alaska 99513-3546

Officer in Charge, Subregion 36, 601 SW 2nd Avenue, Suite 1910, Portland, Oregon 97204-3170

Regional Director, Region 20, 901 Market Street, Suite 400, San Francisco, California 94103-1735

Officer in Charge, Subregion 37, Prince Kuhio Federal Building, 300 Ala Moana Boulevard, Room 7-245, Honolulu, Hawaii 96850-4980

Regional Director, Region 21, 888 South Figueroa Street, 9th Floor, Los Angeles, California 90017-5449

Resident Officer, San Diego Resident Office, Pacific Professional Center, 555 West Beech Street, Suite 302, San Diego, California 92101-2939

Regional Director, Region 22, 20 Washington Place, 5th Floor, Newark, New Jersey 07102-2570

Regional Director, Region 24, La Torre de Plaza, 525 F.D. Roosevelt Avenue, Suite 1002, San Juan, Puerto Rico 00918-1002

Regional Director, Region 25, Minton-Capehart Federal Building, 575 North Pennsylvania Street, Room 238, Indianapolis, Indiana 46204-1577

Regional Director, Region 26, Mid-Memphis Tower Building, 1407 Union Avenue, Suite 800, Memphis, Tennessee 38104-3627

Resident Officer, Little Rock Resident Office, TCBY Tower, 425 West Capitol Avenue, Suite 375, Little Rock, Arkansas 72201-3489

Resident Officer, Nashville Resident Office, 810 Broadway, 3rd Floor, Nashville, Tennessee 37203-3816

Regional Director, Region 27, Dominion Plaza, North Tower, 600 17th Street, 7th Floor, Denver, Colorado 80202-5433

Regional Director, Region 28, Security Building, 234 North Central Avenue, Suite 440, Phoenix, Arizona 85004-2212

Resident Officer, Albuquerque Resident Office, Western Bank Plaza, 505 Marquette Avenue, NW, Room 1820, Albuquerque, New Mexico 87102-2181

Resident Officer, Las Vegas Resident Office, Alan Bible Federal Building, 600 Las Vegas Boulevard South, Suite 400, Las Vegas, Nevada 89101-6637

Resident Officer, El Paso Resident Office, PO Box 23159, El Paso, Texas 79923-3159

Regional Director, Region 29, One Metro Tech Center, Jay Street and Myrtle Avenue, 10th Floor, Brooklyn, New York 11201-4201

Regional Director, Region 30, Henry S. Reuss Federal Plaza, 310 West Wisconsin Avenue, Suite 700, Milwaukee, Wisconsin 53203-2211

Regional Director, Region 31, 11150 W. Olympic Boulevard, Suite 700, Los Angeles, California 90064-1824

Regional Director, Region 32, Breuner Building, 2nd Floor, 1301 Clay Street, Room 300N, Oakland, California 94612-5211

Regional Director, Region 33, Hamilton Square Building, 300 Hamilton Boulevard, Suite 200, Peoria, Illinois 61602-1246

Regional Director, Region 34, One Commercial Plaza, 280 Trumbull Street, 21st Floor, Hartford, Connecticut 06103-3503

[FR Doc. 00-25864 Filed 10-6-00; 8:45 am]

BILLING CODE 7545-01-M